DEPARTMENT OF LABOR

Employment and Training Administration

[TA-W-37,621 and NAFTA-03863]

Westwood Lighting, El Paso, TX; Dismissal of Application for Reconsideration

Pursuant to 29 CFR 90.18(C) an application for administrative reconsideration was filed with the Director of the Division of Trade Adjustment Assistance for workers at Westwood Lighting, El Paso, Texas. The application contained no new substantial information which would bear importantly on the Department's determination. Therefore, dismissal of the application was issued.

TA-W-37,621 and NAFTA-03863; Westwood Lighting, El Paso, Texas (June 8, 2000)

Signed at Washington, DC this 12th day of June, 2000.
Grant D. Beale,
Program Manager, Division of Trade Adjustment Assistance.

[FR Doc. 00-16503 Filed 6-28-00; 8:45 am]

BILLING CODE 4510-30-M